DEPARTMENT OF COMMERCE

International Trade Administration

University of Colorado, Boulder., et al; Notice of Consolidated Decision on Applications for Duty-Free Entry of Scientific Instruments

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number 04-002. Applicant: University of Colorado, Boulder, CO 80309-0425. Instrument: Fiber Laser System, Model E5. Manufacturer: Koheras A/S, Denmark. Intended Use: See notice at 69 FR 9301, February 27, 1904. Order Date: December 1, 2003. Reasons: The foreign instrument provides (1) linewidth of 1 kHz, (2) thermal tunability of 38 Ghz and Piezo tunability of 38 Ghz. Advice received from: A domestic manufacturer of similar equipment.

Docket Number: 04-003. Applicant: Research Foundation of the City of New York, 555 West 57th Street, New York, NY 10019. Instrument: Femtosecond Fiber Laser, Model Femtolite C-20-SP. Manufacturer: IMRA America, Inc., Japan. Intended Use: See notice at 69 FR 9301, February 27, 2004.

Reasons: The foreign instrument provides a source of THz radiation on a 100 fs scale for investigation of THz time-domain spectroscopy and THz time-resolved spectroscopy.

Advice received from: A domestic manufacturer of similar equipment.

Domestic manufacturers of similar equipment advise that (1) the capabilities of each of the foreign instruments described above are pertinent to each applicant's intended purpose and (2) they know of no domestic instrument or apparatus of equivalent scientific value for the intended use of each instrument.

We know of no other instrument or apparatus being manufactured in the United States which is of equivalent scientific value to any of the foreign instruments.

Gerald A. Zerdy,
Program Manager, Statutory Import Programs Staff.

[FR Doc. 04-10663 Filed 5-10-04; 8:45 am]

BILLING CODE 3510-DS-P